DEPARTMENT OF EDUCATION

[Docket No.: ED-2023-SCC-0195]

Agency Information Collection Activities; Comment Request; Connecting Adults to Success: Career Navigator Training Study (CATS Study)

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before January 22, 2024.

ADDRESSES: To access and review all the documents related to the information collection listed in this notice, please use http://www.regulations.gov by searching the Docket ID number ED-2023-SCC-0195. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Melanie Ali, (202) 245-8345.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Connecting Adults to Success: Career Navigator Training Study (CATS Study).

OMB Control Number: 1850-0973.

Type of Review: Revision of a currently approved ICR.

Respondents/Affected Public: Individuals or households.

Total Estimated Number of Annual Responses: 30,823.

Total Estimated Number of Annual Burden Hours: 2,340.

Abstract: The Institute of Education Sciences within the U.S. Department of Education requests clearance for a revision to the Connecting Adults to Success: Evaluation of Career Navigator Training (1850-0973, approved on July 18, 2022). This demonstration study examines the impact of training for career navigators—local adult education provider staff who provide services to address the challenges that learners face navigating the transition to the workforce and to further education and training. The study compares the education and employment outcomes of learners enrolled in adult education sites whose career navigators are assigned by lottery to receive the study's training (the treatment group) with the outcomes of learners enrolled in the business-as-usual sites who are assigned by lottery to receive the study's training after the study period (the comparison group). Approximately 64 adult education sites nationally are participating in the study. Impacts on learners' education and employment outcomes will be examined after 18 and 30 months. The revision is for the purpose of shifting one component of the approved data collection plan—frequent adult education career navigator-completed logs—to add a single follow-up survey to ensure the study can still examine whether the training leads to changes in these practices. The survey is now needed because of concerns about low response rates and data quality from early rounds of those logs.

Dated: November 15, 2023.
Juliana Pearson,
PRA Coordinator, Strategic Collections and Clearance, Governance and Strategy Division, Office of Chief Data Officer, Office of Planning, Evaluation and Policy Development.

[FR Doc. 2023-25678 Filed 11-20-23; 8:45 am]

BILLING CODE 4000-01-P